DEPARTMENT OF DEFENSE

Department of the Army

[Docket ID: USA-2020-HQ-0015]

Proposed Collection; Comment Request

AGENCY: U.S. Army Research Institute for the Behavioral and Social Sciences (ARI)

ACTION: Information collection notice.

SUMMARY: In compliance with the Paperwork Reduction Act of 1995, the U.S. Army Research Institute for the Behavioral and Social Sciences announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 18, 2020.

ADDRESSES: You may submit comments, identified by docket number and title, by any of the following methods:

Federal eRulemaking Portal: http://www.regulations.gov. Follow the instructions for submitting comments.

Mail: The Department of Defense (DoD) cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the U.S. Army Research Institute for the Behavioral and Social Sciences, 6000 6th Street, Fort Belvoir, VA 22060, ATTN: Dr. Alisha Ness, or call 703-545-2398.

SUPPLEMENTARY INFORMATION:

Title; Associated Form; and OMB Number: ARI Game Evaluation; OMB Control Number 0702-XXXX.

Needs and Uses: This information collection will follow best practices in assessment development by collecting feedback about the ease of use, clarity, and usability from individuals who complete the Systems Thinking Abilities game and by collecting demographic information about those individuals to ensure they are similar to the intended end users. The game players are freelance workers from Amazon's Mechanical Turk (MTurk) site who will be paid to play the Systems Thinking Abilities game and respond to the questions included in this information collection. Participants will be master Amazon MTurk workers (workers that demonstrate excellence in a range of MTurk tasks) with a minimum age of 18 years old and a maximum age of 55 years old with normal color vision. Participants will be located in the United States and high school graduates. Respondents will not be sent invitations to participate, instead they can sign up to participate through the MTurk website. Each participant will complete the Systems Thinking Abilities game, the evaluation questions and the demographic information using his or her computer from a location of his or her choice. The ARI Game Evaluation Form will be linked through the MTurk site and responses will be entered and returned online. Once participants complete their assigned section(s) they will be paid for their time through MTurk. Data will be analyzed following completion of data collection activities.

Evaluation Questions: Participants will respond to a series of multiple choice and open-ended questions to capture their experience with the Systems Thinking Abilities game. These questions are included on the ARI Game Evaluation Form. The collected data will be retrieved and processed by Personnel Decisions Research Institutes (PDRI), a contractor working for ARI. Summary statistics will be generated and the open-ended feedback will be content coded. The information collected on participant feedback will be used to identify modifications needed to the software to improve the clarity or ease of use. Findings will be documented in a technical report.

Demographic Questions: Participants will complete questions through an online survey format regarding demographics and background experiences. Demographic questions include age, gender, ethnicity, race, education attainment, and experience questions related to past experience with computer technology. These questions are included on the ARI Game Evaluation Form. The collected data will be retrieved and processed by PDRI. The demographic information will be documented in a technical report describing the initial testing.

Affected Public: Individuals or households.

Annual Burden Hours: 23.3.

Number of Respondents: 100.

Responses per Respondent: 1.

Annual Responses: 100.

Average Burden per Response: 14 minutes.

Frequency: One-time collection.

The U.S. Army Research Institute for the Behavioral and Social Sciences (ARI) is developing an innovative game-based assessment to evaluate an individual's systems thinking abilities. Systems thinking is important for job success in areas such as cyber security, engineering, and mission planning. As an assessment, the Systems Thinking Abilities game needs to be evaluated to ensure it measures what is intended and relates to performance in jobs that require systems thinking. This Information Collection will follow best practices in assessment development by collecting feedback about the ease of use, clarity, and usability from individuals who complete the Systems Thinking Abilities game and by collecting demographic information about those individuals to ensure they are similar to the intended end users.

Dated: October 14, 2020.
Morgan E. Park,
Alternate OSD Federal Register Liaison Officer, Department of Defense.

[FR Doc. 2020-23093 Filed 10-16-20; 8:45 am]

BILLING CODE 3710-08-P